DEPARTMENT OF COMMERCE

National Oceanic and Atmospheric Administration

RIN 0648-XE230

Atlantic Coastal Fisheries Cooperative Management Act Provisions; Horseshoe Crabs; Application for Exempted Fishing Permit, 2015; Reopening of Comment Period

AGENCY: National Marine Fisheries Service (NMFS), National Oceanic and Atmospheric Administration (NOAA), Commerce.

ACTION: Notification of a proposal to conduct exempted fishing; reopening of comment period.

SUMMARY: This action reopens the comment period for an application for an exempted fishing permit for horseshoe crab that published on October 7, 2015. The original comment period closed 13 days later on October 19, 2015, which is two days shorter than the 15-day minimum comment time period required in our regulations. We are therefore reopening the comment period through October 27, 2015, to make-up for this shortfall and to provide additional opportunity for public comment.

DATES: Written comments must be received on or before October 27, 2015.

ADDRESSES: Written comments should be sent to Alan Risenhoover, Director, Office of Sustainable Fisheries, NMFS, 1315 East-West Highway, Room 13362, Silver Spring, MD 20910. Mark the outside of the envelope “Comments on Horseshoe Crab EFP Proposal.”

Comments may also be sent via fax to (301) 713-0596. Comments on this notice may also be submitted by email to: nmfs.state-federal@noaa.gov. Include in the subject line of the email comment the following document identifier: “Horseshoe Crab EFP Proposal Comments.”

FOR FURTHER INFORMATION CONTACT: Derek Orner, Office of Sustainable Fisheries, (301) 427-8567.

SUPPLEMENTARY INFORMATION: A notification of a proposal to conduct exempted fishing was published on October 7, 2015 (80 FR 60633) that would allow the harvest of up to 10,000 horseshoe crabs from the Carl N. Schuster Jr. Horseshoe Crab Reserve for biomedical purposes and require, as a condition of the exempted fishing permit (EFP), the collection of data related to the status of horseshoe crabs within the reserve. The Director, Office of Sustainable Fisheries, has made a preliminary determination that the subject EFP application submitted by Limuli Laboratories of Cape May Court House, NJ, contains all the required information and warrants further consideration.

The notification of EFP application published in the Federal Register with a 13-day comment period that closed on October 19, 2015. Due to a clerical oversight, NMFS provided the public with a 13-day comment period instead of the 15-day comment period required by our regulations at 50 CFR 600.745. As a result, NMFS is extending the comment period to allow for additional time for public comment for interested parties to provide comment on this activity. Thus, NMFS is reopening the comment period through October 27, 2015.

Authority: 16 U.S.C. 1801 et seq.

Dated: October 19, 2015.
Emily H. Menashes,
Acting Director, Office of Sustainable Fisheries, National Marine Fisheries Service.

[FR Doc. 2015-26897 Filed 10-22-15; 8:45 am]

BILLING CODE 3510-22-P